DEPARTMENT OF THE INTERIOR

Office of the Secretary

[GX15AE3800C2000]

National Environmental Policy Act: Implementing Procedures; Revision to Categorical Exclusions for U.S. Geological Survey (516 DM 9)

AGENCY: Office of the Secretary, Interior.

ACTION: Notice of Final National Environmental Policy Act implementing procedures.

SUMMARY: In accordance with the National Environmental Policy Act of 1969 (NEPA) and the Council on Environmental Quality regulations implementing NEPA, the U.S. Geological Survey (USGS) in the Department of the Interior (the Department) is revising two existing categorical exclusions included in the Department of the Interior's Departmental Manual 516 DM 9. The revisions to the categorical exclusions pertain to two types of activities conducted by the USGS: The excavation of trenches across potentially active faults to assess the history of earthquakes along those faults; and the removal of hydrologic and water-quality monitoring structures and equipment and restoration of the sites. USGS experience with these activities indicates that they do not normally have the potential for significant environmental impacts in the absence of extraordinary circumstances. The intent of the revisions is to improve the efficiency of the environmental review process.

DATES: Effective Date: The categorical exclusions are effective immediately.

ADDRESSES: To obtain a copy of the revised categorical exclusions contact Esther Eng, Chief, Environmental Management Branch—USGS, 12201 Sunrise Valley Drive, Reston, VA 20192, email: eeng@usgs.gov.

FOR FURTHER INFORMATION CONTACT: Esther Eng, Chief, Environmental Management Branch—USGS, (703) 648-7550.

SUPPLEMENTARY INFORMATION:

Background

The National Environmental Policy Act (NEPA) requires Federal agencies to consider the potential environmental consequences of their decisions before deciding whether and how to proceed. The Council on Environmental Quality encourages Federal agencies to use categorical exclusions to protect the environment more efficiently by (a) reducing the resources spent analyzing proposals that normally do not have the potential to significantly impact the environment and, (b) focusing resources on proposals that may have significant environmental impacts. The appropriate use of categorical exclusions allows the NEPA review to conclude without preparing either an environmental assessment (EA) or an environmental impact statement (EIS) (40 CFR 1500.4(p) and 40 CFR 1508.4) in the absence of extraordinary circumstances. The Department's list of extraordinary circumstances under which a normally excluded action would require further analysis and documentation in an EA or EIS is found at 43 CFR 46.215.

Categorical Exclusion Revision for Trenching

The USGS excavates trenches across potentially active faults to assess the history of earthquakes along those faults. The study of ancient earthquakes and their rates of occurrence is known as paleoseismology. Paleoseismic data obtained from trenching studies is a fundamental input for USGS National Seismic Hazard Maps. The USGS National Seismic Hazard Maps are used to inform emergency response and to guide building codes. The revision of this categorical exclusion will allow for a more efficient NEPA review.

Public comments were solicited through a notice placed in the Federal Register on August 22, 2014 (79 FR 49799). The proposed language for the categorical exclusion in the notice was as follows: “Digging and subsequent site restoration of exploratory trenches not to exceed one acre of surface disturbance.”

Categorical Exclusion for Water Monitoring Equipment

One of the seven science mission areas of the USGS, the Water Mission Area, is tasked with collecting and disseminating reliable, impartial, and timely information that is needed to understand the Nation's water resources. The Water Mission Area actively promotes the use of this information by decision makers to: (1) Minimize loss of life and property as a result of water-related natural hazards, such as floods, droughts, and land movement; (2) effectively manage groundwater and surface-water resources for domestic, agricultural, commercial, industrial, recreational, and ecological uses; (3) protect and enhance water resources for human health, aquatic health, and environmental quality; and (4) contribute to the wise physical and economic development of the Nation's resources for the benefit of present and future generations. To achieve this science mission, the USGS constructs and operates a variety of hydrologic and water-quality monitoring structures and equipment at streams, rivers, springs, wellheads, and other sites across the Nation. After these structures are no longer needed for scientific data collection, they are removed and the site is restored. The revision of this categorical exclusion will allow for a more efficient NEPA review.

Public comments were solicited through the same notice placed in the Federal Register on August 22, 2014 (79 FR 49799). The proposed language for the categorical exclusion as set out in the notice was as follows: “Operation, construction, installation, and removal—including restoration of sites to the pre-structure condition or equivalent of the surrounding environment—of hydrologic and water-quality monitoring structures and equipment including but not limited to weirs, cableways, streamgaging stations, groundwater wells, and meteorologic structures.”

Public Comments

No public comments were received.

Categorical Exclusion

The Department of the Interior will add the following categorical exclusions to the Departmental Manual at 516 DM 9, section 9.5 Categorical Exclusions:

E. Operation, construction, installation, and removal—including restoration of sites to the pre-structure condition or equivalent of the surrounding environment—of hydrologic and water-quality monitoring structures and equipment including but not limited to weirs, cableways, streamgaging stations, groundwater wells, and meteorologic structures; and

I. Digging and subsequent site restoration of exploratory trenches not to exceed one acre of surface disturbance.

Willie R. Taylor,
Director, Office of Environmental Policy and Compliance.

[FR Doc. 2015-10242 Filed 5-1-15; 8:45 am]

BILLING CODE 4310-AM-P